DEPARTMENT OF TRANSPORTATION

National Highway Traffic Safety Administration

[Docket No. NHTSA 2000-7616; Notice 1]

Piaggio & c., S.p.A.; Receipt of Application for Temporary Exemption From Federal Motor Vehicle Safety Standard No. 123

Piaggo & c., S.p.A. (“Piaggio”), an Italian corporation, of Pontedera, Italy, has applied for a temporary exemption of two years from a requirement of S5.2.1 (Table 1) of Federal Motor Vehicle Safety Standard No. 123 Motorcycle Controls and Displays. The basis of the request is that “compliance with the standard would prevent the manufacturer from selling a motor vehicle with an overall safety level at least equal to the overall safety level of nonexempt vehicles,” 49 U.S.C. 30113(b)(3)(B)(iv).

We are publishing this notice of receipt of an application in accordance with the requirements of 49 U.S.C. 30113(b)(2). This action does not represent any judgment of the agency on the merits of the application.

Piaggio has applied on behalf of its Vespa ET4 (125 and 150 cc) motor scooters. The scooters are defined as “motorcycles” for purposes of compliance with the Federal motor vehicle safety standards. If a motorcycle is produced with rear wheel brakes, S5.2.1 of Standard No. 123 requires that the brakes be operable through the right foot control (the left handlebar is permissible only for a motor driven cycle (Item 11, Table 1), i.e., a motorcycle with a motor that produces 5 brake horsepower or less).

Piaggio petitions that it be allowed to use the left handlebar as the control for the rear brakes of its Vespa ET4, which is a motorcycle and not a motor driven cycle. The model features an automatic clutch that eliminates the left-hand clutch lever as well as any left-foot gearshift lever. According to Piaggio, “the motor scooter is therefore very similar to a bicycle, both in ergonomic stance and operation.” The model will feature a hand-actuated lever on the left handlebar that will actuate the rear brake, and a hand-actuated lever on the right handlebar that will control the front brake.

Piaggio argues that the overall level of safety of the scooters equals or exceeds that of a motorcycle that complies with the brake control location requirement of Standard No. 123. The Vespa ET4 is equipped with disc brakes on the front wheels, and “easily meets and exceeds all the performance requirements of FMVSS 122” for motorcycle brake systems. The vehicle meets the braking performance requirements of ECE 93/14 as well.

Piaggio avers that no other country in Europe, Japan, or elsewhere in Asia requires scooters to be equipped with a right foot-operated brake control. Absent an exemption, then, Piaggio will be unable to sell the Vespa ET4 in the United States. Piaggio “is in the process of introducing a complete modification of the Vespa braking system to conform with FMVSS 123,” and intends to complete its development work during the two-year period that its exemption would be in effect.

Piaggio will not sell more than 2,500 scooters a year while an exemption is in effect. The exemption would cover Model Year 2000 and 2001 vehicles. The company believes that an exemption would be consistent with the objectives of traffic safety because the scooter provide “for much more natural braking response by the rider than non-exempt vehicles.” Extended use in Europe and the rest of the world has not resulted in either consumer groups or governmental authorities raising any safety concerns. The exemption would also be in the public interest because it is “environmentally clean and fuel efficient * * * convenient urban transportation.”

You may submit comments on the application described above. Comments should refer to the docket number and the notice number, and be submitted to: Docket Management, Room PL-401, 400 Seventh Street, SW, Washington, DC 20590. You should send at least two copies.

We shall consider all comments received before the close of business on the comment closing date indicated below. Comments will be available for examination in the docket at the above address both before and after that date. The Docket Room is open from 10:00 a.m. until 5:00 p.m. To the extent possible, comments filed after the closing date will also be considered.

We shall publish a notice of final action on the application pursuant to the authority indicated below.

Comment closing date: August 16, 2000.

(49 U.S.C. 30113; delegations of authority at 49 CFR 1.50. and 501.8)

Issued on July 11, 20000.
Stephen R. Kratzke,
Associate Administrator for Safety Performance Standards.

[FR Doc. 00-18011 Filed 7-14-00; 8:45 am]

BILLING CODE 4910-59-P